DEPARTMENT OF TRANSPORTATION

Federal Highway Administration

[Docket No. FHWA-2024-0082]

Agency Information Collection Activities: Notice of Request for Renewal of Currently Approved Information Collection

AGENCY: Federal Highway Administration (FHWA), DOT.

ACTION: Notice of request for revision of currently approved information collection.

SUMMARY: The FHWA invites public comments about our intention to request the Office of Management and Budget's (OMB) approval for renewal of an existing information collection that is summarized below under SUPPLEMENTARY INFORMATION. We are required to publish this notice in the Federal Register by the Paperwork Reduction Act of 1995.

DATES: Please submit comments by February 10, 2025.

ADDRESSES: You may submit comments identified by DOT Docket ID Number 0082 by any of the following methods:

Website: For access to the docket to read background documents or comments received go to the Federal eRulemaking Portal: Go to https://www.regulations.gov. Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Mark Glaze, (202) 366-4503, HEPN-10, Room E74-466, Federal Highway Administration, US Department of Transportation, 1200 New Jersey Avenue SE, Washington, DC 20590. Office hours are from 8 a.m. to 4:30 p.m., Monday through Friday, except Federal holidays.

SUPPLEMENTARY INFORMATION:

Title: Congestion Mitigation and Air Quality (CMAQ) Improvement Program.

OMB Control: 2125-0614.

Background: The development and maintenance of a cumulative database of all CMAQ projects is required by 23 U.S.C. 149(i)(1). This database must include specific information about each project such as name, location, sponsor, cost, and to the extent already measured by the project sponsor, cost-effectiveness based on reductions in emissions and congestion. States provide annual reports on all CMAQ obligations and de-obligations taking place in each fiscal year. These reports include obligations of program funds; descriptions of individual projects; and potential impacts on air quality and congestion. The data provided in the annual reports and the CMAQ Public Access System allows for transparency, showing that the program continues to provide incremental benefits through enhanced regional and local air quality improvement, and through contributions to congestion relief.

Information provided in the CMAQ project reporting system is useful for FHWA and FTA planning purposes, as well as reports to the U.S. Congress. The database is also the official data source for reporting on CMAQ emission measure performance under the transportation performance management requirements in 23 CFR part 490.

Respondents: There are 51 respondents, including 50 State Transportation Departments and the District of Columbia.

Frequency: Once every calendar year to record CMAQ project data from the previous fiscal, on or about March 1st.

Estimated Average Burden per Response: There is a total of 51 annual reports per year on a variable number of reported projects. Each project entry requires on average 15 to 20 minutes to complete.

Estimated Total Annual Burden Hours: Total estimated average annual burden is 674 hours. (Based on the most recent ten year average of Annual Reporting projects.)

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued on December 5, 2024.
Jazmyne Lewis,
Information Collection Officer.

[FR Doc. 2024-28947 Filed 12-9-24; 8:45 am]

BILLING CODE 4910-22-P